FEDERAL COMMUNICATIONS COMMISSION

[DA 08-770]

Notice of Suspension and Initiation of Debarment Proceedings; Schools and Libraries Universal Service Support Mechanism

AGENCY: Federal Communications Commission.

ACTION: Notice.

SUMMARY: The Enforcement Bureau (the “Bureau”) gives notice of Mr. Rafael G. Adame's suspension from the schools and libraries universal service support mechanism (or “E-Rate Program”). Additionally, the Bureau gives notice that debarment proceedings are commencing against him. Mr. Adame, or any person who has an existing contract with or intends to contract with him to provide or receive services in matters arising out of activities associated with or related to the schools and libraries support, may respond by filing an opposition request, supported by documentation to Diana Lee, Federal Communications Commission, Enforcement Bureau, Investigations and Hearings Division, Room 4-C330, 445 12th Street, SW., Washington, DC 20554.

DATES: Opposition requests must be received by June 2, 2008. However, an opposition request by the party to be suspended must be received 30 days from the receipt of the suspension letter or June 2, 2008, whichever comes first. The Bureau will decide any opposition request for reversal or modification of suspension or debarment within 90 days of its receipt of such requests.

FOR FURTHER INFORMATION CONTACT: Diana Lee, Federal Communications Commission, Enforcement Bureau, Investigations and Hearings Division, Room 4-C330, 445 12th Street, SW., Washington, DC 20554. Diana Lee may be contacted by phone at (202) 418-0843 or e-mail at diana.lee@fcc.gov. If Ms. Lee is unavailable, you may contact Ms. Vickie Robinson, Assistant Chief, Investigations and Hearings Division, by telephone at (202) 418-1420 and by e-mail at vickie.robinson@fcc.gov.

SUPPLEMENTARY INFORMATION: The Bureau has suspension and debarment authority pursuant to 47 CFR 54.8 and 47 CFR 0.111. Suspension will help to ensure that the party to be suspended cannot continue to benefit from the schools and libraries mechanism pending resolution of the debarment process. Attached is the suspension letter, DA 08-770, which was mailed to Mr. Adame and released on April 2, 2008. The complete text of the notice of debarment is available for public inspection and copying during regular business hours at the FCC Reference Information Center, Portal II, 445 12th Street, SW., Room CY-A257, Washington, DC 20554. In addition, the complete text is available on the FCC's Web site at http://www.fcc.gov. The text may also be purchased from the Commission's duplicating inspection and copying during regular business hours at the contractor, Best Copy and Printing, Inc., Portal II, 445 12th Street, SW., Room CY-B420, Washington, DC 20554, telephone (202) 488-5300 or (800) 378-3160, facsimile (202) 488-5563, or via e-mail http://www.bcpiweb.com.

Federal Communications Commission.
Trent B. Harkrader,
Deputy Chief, Investigations and Hearings Division, Enforcement Bureau.

The attached is the Suspension and Initiation of Debarment Letter to Mr. Rafael G. Adame.

Federal Communications Commission

Enforcement Bureau

Investigations and Hearings Division

445 12th Street, SW., Suite 4-C330

Washington, D.C. 20554

April 2, 2008

DA 08-770

VIA CERTIFIED MAIL

RETURN RECEIPT REQUESTED AND FACSIMILE (956-664-2703)

Mr. Rafael G. Adame, c/o Eric Samuel Jarvis, Esq., Alvarez & Jarvis, PC, 6521 N. 10th Street, Suite A, McAllen, TX 78504, E-Mail: eric@alvarezandjarvis.com

Re: Notice of Suspension and Initiation of Debarment Proceedings, File No. EB-07-IH-9547

Dear Mr. Adame: The Federal Communications Commission (“FCC” or “Commission”) has received notice of your conviction for wire fraud in violation of 18 U.S.C. § 1343 in connection with your participation in the schools and libraries universal service support mechanism (“E-Rate program”).¹ Consequently, pursuant to 47 C.F.R. § 54.8, this letter constitutes official notice of your suspension from the E-Rate program. In addition, the Enforcement Bureau (“Bureau”) hereby notifies you that we are commencing debarment proceedings against you.²

¹ Any further reference in this letter to “your conviction” refers to your conviction of seven counts of wire fraud. United States v. Rafael Gongora Adame, Criminal Docket No. 7:06-CR-1082, CRIMINAL NO. M-06-1082, Judgment (S.D. Tex. filed Mar. 3, 2008 and entered Mar. 11, 2008) (“Adame Judgment”).

² 47 C.F.R. 54.8; 47 C.F.R. 0.111 (delegating to the Enforcement Bureau authority to resolve universal service suspension and debarment proceedings). The Commission adopted debarment rules for the schools and libraries universal service support mechanism in 2003. See Schools and Libraries Universal Service Support Mechanism, Second Report and Order and Further Notice of Proposed Rulemaking, 18 FCC Rcd 9202 (2003) (“Second Report and Order”) (adopting section 54.521 to suspend and debar parties from the E-rate program). In 2007, the Commission extended the debarment rules to apply to all of the Federal universal service support mechanisms. See Comprehensive Review of the Universal Service Fund Management, Administration, and Oversight; Federal-State Joint Board on Universal Service; Schools and Libraries Universal Service Support Mechanism; Lifeline and Link Up; Changes to the Board of Directors for the National Exchange Carrier Association, Inc., Report and Order, 22 FCC Rcd 16372, 16410-12 (“Program Management Order”) (renumbering section 54.521 of the universal service debarment rules as section 54.8 and amending subsections (a)(1), (5), (c), (d), (e)(2)(i), (3), (e)(4), and (g)).

I. Notice of Suspension

The Commission has established procedures to prevent persons who have “defrauded the government or engaged in similar acts through activities associated with or related to the schools and libraries support mechanism” from receiving the benefits associated with that program.³ On November 19, 2007, the United States District Court of Texas sentenced you to serve three years in prison following your conviction on seven counts of wire fraud in connection with your participation in the E-Rate program.⁴ As the owner of ATE Tel, a vendor that provided computer-related goods and services to various school districts, including the Weslaco Independent School District in South Texas, you submitted fraudulent invoices via wire communications to the Universal Service Administrative Company (“USAC”) for reimbursement from the E-Rate program.⁵ By making false representations on invoices filed with USAC, you fraudulently obtained more than $106,000 in illegitimate payments from the federal E-Rate program.⁶

³ See Second Report and Order, 18 FCC Rcd at 9225, para. 66; Program Management Order 22 FCC Rcd at 16387, para. 32. The Commission's debarment rules define a “person” as “[a]ny individual, group of individuals, corporation, partnership, association, unit of government or legal entity, however, organized.” 47 CFR 54.8(a)(6).

⁴ See generally Adame Judgment at 1.

⁵ United States v. Rafael Gongora Adame, Criminal Docket No. 7:06-CR-1082, CRIMINAL NO. M-06-1082, Indictment, 3 (S.D. Tex. filed Dec. 6, 2006, and entered Dec. 12, 2006) (“Adame Indictment”). See United States v. Rafael Gongora Adame, Criminal Docket No. 7:06-CR-1082, CRIMINAL NO. M-06-1082, Verdict (S.D. Tex. filed Feb. 9, 2007, and entered Mar. 20, 2007) (“Adame Verdict”); Adame Judgment??; Department of Justice Press Release: Former Telecom Owner Sentenced to Three Years in Prison for Scheme to Defraud Federal E-Rate Program, 1 (“DOJ November 20 Press Release”) .

⁶ See Adame Judgment; see also DOJ November 20 Press Release at 1.

Pursuant to section 54.8(a)(4) of the Commission's rules,⁷ your conviction requires the Bureau to suspend you from participating in any activities associated with or related to the schools and libraries fund mechanism, including the receipt of funds or discounted services through the schools and libraries fund mechanism, or consulting with, assisting, or advising applicants or service providers regarding the schools and libraries support mechanism.⁸ Your suspension becomes effective upon the earlier of your receipt of this letter or publication of notice in the Federal Register.⁹

⁷ 47 CFR 54.8(a)(4). See Second Report and Order, 18 FCC Rcd at 9225-9227, paras. 67-74.

⁸ 47 CFR 54.8(a)(1), (d).

⁹ Second Report and Order, 18 FCC Rcd at 9226, para. 69; 47 CFR 54.8(e)(1).

Suspension is immediate pending the Bureau's final debarment determination. In accordance with the Commission's debarment rules, you may contest this suspension or the scope of this suspension by filing arguments in opposition to the suspension, with any relevant documentation. Your request must be received within 30 days after you receive this letter or after notice is published in the Federal Register, whichever comes first.¹⁰ Such requests, however, will not ordinarily be granted.¹¹ The Bureau may reverse or limit the scope of suspension only upon a finding of extraordinary circumstances.¹² Absent extraordinary circumstances, the Bureau will decide any request for reversal or modification of suspension within 90 days of its receipt of such request.¹³

¹⁰ 47 CFR 54.8(e)(4).

¹¹ Id.

¹² 47 CFR 54.8(f).

¹³ See Second Report and Order, 18 FCC Rcd at 9226, para. 70; 47 CFR 54.8(e)(5), 54.8(f).

II. Initiation of Debarment Proceedings

Your conviction in connection with the E-Rate program, in addition to serving as a basis for immediate suspension from the program, also serves as a basis for the initiation of debarment proceedings against you. Your conviction falls within the categories of causes for debarment defined in section 54.8(c) of the Commission's rules.¹⁴ Therefore, pursuant to section 54.8(a)(4) of the Commission's rules, your conviction requires the Bureau to commence debarment proceedings against you.

¹⁴ “Causes for suspension and debarment are the conviction of or civil judgment for attempt or commission of criminal fraud, theft, embezzlement, forgery, bribery, falsification or destruction of records, making false statements, receiving stolen property, making false claims, obstruction of justice and other fraud or criminal offense arising out of activities associated with or related to the schools and libraries support mechanism, the high-cost support mechanism, the rural healthcare support mechanism, and the low-income support mechanism.” 47 CFR 54.8(c). Such activities “include the receipt of funds or discounted services through [the federal universal service] support mechanisms, or consulting with, assisting, or advising applicants or service providers regarding [the federal universal service] support mechanisms.” 47 CFR 54.8(a)(1).

As with your suspension, you may contest debarment or the scope of the proposed debarment by filing arguments and any relevant documentation within 30 calendar days of the earlier of the receipt of this letter or of publication in the Federal Register.¹⁵ Absent extraordinary circumstances, the Bureau will debar you.¹⁶ Within 90 days of receipt of any opposition to your suspension and proposed debarment, the Bureau, in the absence of extraordinary circumstances, will provide you with notice of its decision to debar.¹⁷ If the Bureau decides to debar you, its decision will become effective upon the earlier of your receipt of a debarment notice or publication of the decision in the Federal Register.¹⁸

¹⁵ See Second Report and Order, 18 FCC Rcd at 9226, para. 70; 47 CFR 54.8(e)(3).

¹⁶ Second Report and Order, 18 FCC Rcd at 9227, para. 74.

¹⁷ See id., 18 FCC Rcd at 9226, para. 70; 47 CFR 54.8(e)(5).

¹⁸ Id. The Commission may reverse a debarment, or may limit the scope or period of debarment upon a finding of extraordinary circumstances, following the filing of a petition by you or an interested party or upon motion by the Commission. 47 CFR 54.8(f).

If and when your debarment becomes effective, you will be prohibited from participating in activities associated with or related to the schools and libraries support mechanism for three years from the date of debarment.¹⁹ The Bureau may, if necessary to protect the public interest, extend the debarment period.²⁰

¹⁹ Second Report and Order, 18 FCC Rcd at 9225, para. 67; 47 CFR 54.8(d), 54.8(g).

²⁰ Id.

Please direct any response, if by messenger or hand delivery, to Marlene H. Dortch, Secretary, Federal Communications Commission, 236 Massachusetts Avenue, N.E., Suite 110, Washington, DC 20002, to the attention of Diana Lee, Attorney Advisor, Investigations and Hearings Division, Enforcement Bureau, Room 4-C330, with a copy to Vickie Robinson, Assistant Chief, Investigations and Hearings Division, Enforcement Bureau, Room 4-C330, Federal Communications Commission. If sent by commercial overnight mail (other than U.S. Postal Service Express Mail and Priority Mail), the response should be sent to the Federal Communications Commission, 9300 East Hampton Drive, Capitol Heights, Maryland 20743. If sent by first-class, Express, or Priority mail, the response should be sent to Diana Lee, Attorney Advisor, Investigations and Hearings Division, Enforcement Bureau, Federal Communications Commission, 445 12th Street, S.W., Room 4-C330, Washington, DC 20554, with a copy to Vickie Robinson, Assistant Chief, Investigations and Hearings Division, Enforcement Bureau, Federal Communications Commission, 445 12th Street, S.W., Room 4-C330, Washington, DC, 20554. You shall also transmit a copy of the response via email to diana.lee@fcc.gov and to vickie.robinson@fcc.gov.

If you have any questions, please contact Ms. Lee via mail, by telephone at (202) 418-1420 or by e-mail at diana.lee@fcc.gov. If Ms. Lee is unavailable, you may contact Ms. Vickie Robinson, Assistant Chief, Investigations and Hearings Division, by telephone at (202) 418-1420 and by e-mail at vickie.robinson@fcc.gov.

Sincerely yours,

Trent Harkrader

Deputy Chief, Investigations and Hearings Division, Enforcement Bureau

cc: Kristy Carroll, Esq., Universal Service Administrative Company (via e-mail); Duncan S. Currie, Esq., Chief, Dallas Field Office, Antitrust Division, Department of Justice

[FR Doc. E8-9731 Filed 5-1-08; 8:45 am]

BILLING CODE 6712-01-P